CONSUMER PRODUCT SAFETY COMMISSION

16 CFR Part 1240

[CPSC Docket No. CPSC-2023-0046]

Safety Standard for Infant and Infant/Toddler Rockers; Supplemental Information; Notice of Availability and Request for Comment; Reopening of Comment Period

AGENCY: Consumer Product Safety Commission.

ACTION: Proposed rule; reopening of comment period.

SUMMARY: In October 2023, the Consumer Product Safety Commission (CPSC) published in the Federal Register a notice of proposed rulemaking (NPR) to address risks of death and injury associated with infant suffocations, falls, and other hazards associated with infant and infant/toddler rockers (rockers). On August 22, 2024, CPSC published a notice of availability and request for comment (NOA) to announce the availability of, and to seek comment on, details about incident data relevant to the NPR. The NOA also sought comment on a standard tessellation language (STL) file for a firmness test fixture proposed in the NPR, and an amended version of the voluntary standard for rockers. The NOA invited the public to submit written comments during a 30-day comment period, beginning on the NOA publication date and ending on September 23, 2024. In response to a request for a 90-day extension of the NOA comment period, the Commission is reopening the comment period. Comments are now due November 7, 2024.

DATES: The comment period for the proposed rule published August 22, 2024, at 89 FR 67917, is reopened. Submit comments by November 7, 2024.

ADDRESSES: Submit comments, identified by Docket No. CPSC-2023-0046, by any of the following methods:

Electronic Submissions: Submit electronic comments to the Federal eRulemaking Portal at: https://www.regulations.gov. Follow the instructions for submitting comments. CPSC typically does not accept comments submitted by email, except through www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East-West Highway, Bethesda, MD 20814; (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2023-0046, into the “Search” box, and follow the prompts.

FOR FURTHER INFORMATION CONTACT: Zachary S. Foster, Project Manager, Division of Human Factors, Directorate for Engineering Sciences, Consumer Product Safety Commission, 5 Research Place, Rockville, MD 20850; telephone (301) 987-2034; email: zfoster@cpsc.gov.

SUPPLEMENTARY INFORMATION:

A. Background

Pursuant to section 104 of the Consumer Product Safety Improvement Act of 2008 (15 U.S.C. 2056a), the Commission is required to promulgate consumer product safety standards for durable infant or toddler products. Under this statutory direction, the Commission published an NPR, Safety Standard for Infant and Infant/Toddler Rockers, to establish a safety standard for rockers to reduce the risk of death and injury associated with these products. 88 FR 73551 (Oct. 26, 2023). The NPR proposes incorporating by reference the 2022 version of the rockers voluntary standard, ASTM F3084-22, Standard Consumer Safety Specification for Infant and Infant/Toddler Rockers, with modifications to make the standard more stringent, to further reduce the risk of injury associated with rockers.

On August 22, 2024, the Commission published in the Federal Register an additional request for comment and a release of the underlying incident data, titled Safety Standard for Infant and Infant/Toddler Rockers; Supplemental Information; Notice of Availability and Request for Comment (NOA). The NOA sought comment on three items: (1) incorporation of the updated July 2024 version of the voluntary standard for rockers—ASTM F3084-24; (2) incident reports underlying the data discussed in the NPR; and (3) an STL file of the firmness test fixture proposed in the NPR for gauging the firmness of a rocker seat.

B. Request for Comment Period Extension

On September 6, 2024, Lisa Trofe, Executive Director of the Juvenile Products Manufacturers Association (JPMA), on behalf of JPMA's members and three companies that individually co-signed the request, submitted a request for a 90-day extension of the NOA comment period (JPMA request).1 2 The JPMA request asserts that the 30-day comment period is insufficient for stakeholders to provide meaningful feedback on the NOA and complete dataset because when first available on August 22, 2024, the STL file and underlying data was only viewable and not downloadable, and some documents did not become available for review until August 28.

¹ JMPA's request has been placed on the docket for this rulemaking, as well as attached as to Staff's September 17, 2024, Briefing Memorandum: Safety Standard for Infant and Infant/Toddler Rockers; Supplemental Information; Notice of Availability and Request for Comment; Extension of Comment Period, available at: https://www.cpsc.gov/s3fs-public/Safety-Standard-for-Infant-and-Infant-Toddler-Rockers-Notice-of-Availability-and-Request-for-Comment.pdf?VersionId=VKfNRsEI29yqGgHoacfb0MEMlhum5J5L.

² On September 19, 2024, the Commission voted (4-1) to publish this notice.

C. Assessment of the JPMA Request

CPSC's practice is to make available the underlying incident data that it is legally authorized to publicize. Stakeholders are currently able to review all underlying incident data that supports the NPR and submit comments on that data; therefore, there is no need for stakeholders to download the underlying incident data. The Commission agrees, though, that stakeholders may benefit from additional time to review the complete underlying incident dataset because some of the data became reviewable on August 28, 2024, rather than August 22 as intended. Further, CPSC agrees with JPMA that the STL file is difficult to evaluate without downloading it, and that this file was not downloadable until September 9, 2024.

An additional 90 days, totaling 4 months (30 days plus 90 days), is unnecessary to assess the STL file and incident data, and provide feedback. However, CPSC is reopening the comment period for an extension of 45 days from the closing date of September 23, 2024. This reopening provides commenters not only additional time to review incident data, but also, in the assessment of CPSC's technical staff, ample time to manufacture, test, and comment on the firmness test fixture proposed in the NPR and described in the STL file.

D. Conclusion

The Commission has considered JPMA's request to reopen the comment period and staff's assessment of the request. The comment period closed on September 23, 2024. To provide additional time for stakeholders to comment on the NOA, the Commission is reopening the comment period for an additional 45-days until November 7, 2024.

Alberta E. Mills,
Secretary, Consumer Product Safety Commission.

[FR Doc. 2024-22062 Filed 10-1-24; 8:45 am]

BILLING CODE 6355-01-P